NATIONAL AERONAUTICS AND SPACE ADMINISTRATION

[Notice: (20-056)]

National Space-Based Positioning, Navigation, and Timing Advisory Board; Meeting

AGENCY: National Aeronautics and Space Administration.

ACTION: Notice of meeting.

SUMMARY: In accordance with the Federal Advisory Committee Act, as amended, and the President's 2004 U.S. Space-Based Positioning, Navigation, and Timing (PNT) Policy, the National Aeronautics and Space Administration (NASA) announces a meeting of the National Space-Based Positioning, Navigation, and Timing (PNT) Advisory Board. Since this will be a more concise virtual meeting rather than the traditional extended face-to-face meeting, it will be formally noted as the “24th Interim Meeting,” in preparation for the 25th Meeting in the fall, 2020.

DATES: Wednesday, July 1, 2020, 11:00 a.m. to 3:00 p.m., Eastern Time.

ADDRESSES: Virtual meeting via dial-in teleconference and WebEx only.

FOR FURTHER INFORMATION CONTACT: Mr. James J. Miller, Designated Federal Officer, Human Exploration and Operations Mission Directorate, NASA Headquarters, Washington, DC 20546, (202) 358-4417, fax (202) 358-4297, or jj.miller@nasa.gov.

SUPPLEMENTARY INFORMATION: As noted above, this meeting will be available telephonically and by WebEx only. You must use a touch-tone phone to participate in this meeting. Any interested person may dial the USA toll-free conference call number 1-844-467-4685 or toll number 1-720-259-7012, passcode 106724, to participate in this meeting by telephone. The WebEx link is https://nasaenterprise.webex.com/; the meeting number is 198 621 2282, and password is GCsKMAd?334.

The agenda for the meeting includes the following topics:

• Updates on emerging U.S. Positioning, Navigation and Timing (PNT) policies

• Status of Global Positioning System (GPS) constellation services and modernization

• Examine techniques to Protect, Toughen, and Augment (PTA) access to GPS/Global Navigation Satellite Systems (GNSS) services for multiple user sectors

• Assess alternative or complimentary PNT signals sources to GPS/GNSS signals in a stressed spectrum environment

• Explore opportunities for enhancing the interoperability of GPS with other emerging international GNSS constellations

• Identify emerging trends and requirements for new PNT services in U.S. and international fora

In accordance with 41 CFR parts 101-6 and 102-3, Federal Advisory Committee Management; Final Rule, Section 102-3.150(b), this meeting is being held with less than 15 calendar days' notice to accommodate the scheduling priorities of the key participants.

Patricia Rausch,
Advisory Committee Management Officer, National Aeronautics and Space Administration.

[FR Doc. 2020-13174 Filed 6-17-20; 8:45 am]

BILLING CODE 7510-13-P